DEPARTMENT OF ENERGY

Federal Energy Regulatory Commission

[Docket No. CP21-57-000]

Mountain Valley Pipeline, LLC; Notice of Supplemental Scoping Period for the Proposed Amendment to the Certificate of Public Convenience and Necessity for the Mountain Valley Pipeline Project and Request for Comments on Environmental Issues

On March 16, 2021, Commission staff issued a “Notice of Scoping Period and Requesting Comments on Environmental Issues for the Proposed Amendment to the Certificate of Public Convenience and Necessity for the Mountain Valley Pipeline Project” (Notice of Scoping). The Notice of Scoping is included as attachment 1.¹ The scoping comment period ended on April 15, 2021.

¹ The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

It has come to our attention that the entire environmental mailing list may not have received copies of the Notice of Scoping; therefore, the Commission is issuing this Notice of Supplemental Scoping Period to provide interested parties that did not receive the previous notice an opportunity to file comments on environmental issues. The supplemental scoping period will close on August 2, 2021.

The staff of the Commission is preparing an environmental assessment (EA) that will discuss the environmental impacts of the proposed Amendment to the Certificate of Public Convenience and Necessity for the Mountain Valley Pipeline Project (Amendment Project) involving construction and operation of facilities by Mountain Valley Pipeline, LLC (Mountain Valley) in Wetzel, Lewis, Webster, Nicholas, Greenbrier, Summers, and Monroe Counties, West Virginia and Giles, Montgomery, Roanoke, Franklin, and Pittsylvania Counties, Virginia.

Your comments should focus on the potential environmental effects, reasonable alternatives, and measures to avoid or lessen environmental impacts. Your input will help the Commission staff determine what issues they need to evaluate in the EA. Commission staff will consider all written comments during the preparation of the EA. If you submitted comments in Docket No. CP21-57-000 during the previous scoping period, those comments will be considered and do not need to be resubmitted.

On June 11, 2021, Commission staff issued a “Notice of Schedule for the Preparation of an Environmental Assessment for the Proposed Amendment to the Certificate of Public Convenience and Necessity for the Mountain Valley Pipeline Project” (Notice of Schedule).² As indicated in the Notice of Schedule, the EA is scheduled to be published on August 13, 2021. If a schedule change becomes necessary, the Commission will issue a revised schedule.

² See accession number 20210611-3044.

Additional information on the Amendment Project including how to submit comments to the Commission, a summary of the proposed project, the NEPA Process, and information on the environmental mailing list can be found in the Notice of Scoping included in attachment 1.

Additional information about the project is also available from the Commission's Office of External Affairs, at (866) 208-FERC, or on the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Dated: July 1, 2021.
Kimberly D. Bose,
Secretary.

[FR Doc. 2021-14626 Filed 7-8-21; 8:45 am]

BILLING CODE 6717-01-P